DEPARTMENT OF ENERGY

Office of Energy Efficiency and Renewable Energy

[Docket No. EERE-BT-2006-WAV-0139]

Energy Conservation Program for Consumer Products: Publication of the Petition for Waiver and Granting of the Application for Interim Waiver of Whirlpool Corporation From the DOE Residential Automatic and Semi-Automatic Clothes Washer Test Procedures

AGENCY: Office of Energy Efficiency and Renewable Energy, Department of Energy.

ACTION: Notice of Petition for Waiver, granting of application for interim waiver, and request for comments.

SUMMARY: Today's notice publishes a Petition for Waiver from Whirlpool Corporation. This Petition for Waiver (hereafter “Whirlpool Petition”) requests the Department to modify the clothes washer test procedure for the Whirlpool High Impeller line of clothes washers with basket volumes greater than 3.8 cubic feet and less than 3.9 cubic feet. The Department of Energy (hereafter “Department” or “DOE”) is soliciting comments, data and information with respect to the Whirlpool Petition.

Today's notice also grants an Interim Waiver to Whirlpool from the existing DOE automatic and semi-automatic clothes washer test procedure for the company's High Impeller line of clothes washers with basket volumes greater than 3.8 cubic feet and less than 3.9 cubic feet.

DATES: The Department will accept comments, data and information regarding this Petition for Waiver until, but no later September 21, 2006.

ADDRESSES: Please submit comments, identified by docket number EERE-BT-2006-WAV-0139, by any of the following methods:

• Mail: Ms. Brenda Edwards-Jones, U.S. Department of Energy, Building Technologies Program, Mailstop EE-2J, Forrestal Building, 1000 Independence Avenue, SW., Washington, DC 20585-0121. Telephone: (202) 586-2945. Please submit one signed original paper copy.

• Hand Delivery/Courier: Ms. Brenda Edwards-Jones, U.S. Department of Energy, Building Technologies Program, Room 1J-018, Forrestal Building, 1000 Independence Avenue, SW., Washington, DC 20585.

• E-mail: bryan.berringer@ee.doe.gov. Include either the docket number EERE-BT-2006-WAV-0139 and/or “Whirlpool Petition” in the subject line of the message.

• Federal eRulemaking Portal: http://www.regulations.gov. Follow the instructions for submitting comments.

Instructions: All submissions received must include the agency name and docket number for this proceeding. Submit electronic comments in WordPerfect, Microsoft Word, PDF, or text (ASCII) file format and avoid the use of special characters or any form of encryption. Wherever possible, include the electronic signature of the author. Absent an electronic signature, comments submitted electronically must be followed and authenticated by submitting the signed original paper document. The Department does not accept telefacsimiles (faxes). Any person submitting written comments must also send a copy of such comments to the petitioner. (10 Code of Federal Regulations (CFR) 430.27(d)) The name and address of the petitioner of today's notice is: Heather O. West, Director, Government Relations, Whirlpool Corporation, 1200 G Street NW., Suite 828, Washington, DC 20005-3820.

According to 10 CFR 1004.11, any person submitting information that he or she believes to be confidential and exempt by law from public disclosure should submit two copies: one copy of the document including all the information believed to be confidential, and one copy of the document with the information believed to be confidential deleted. The Department will make its own determination about the confidential status of the information and treat it according to its determination.

Docket: For access to the docket to read the background documents relevant to this matter, go to the U.S. Department of Energy, Forrestal Building, Room 1J-018 (Resource Room of the Building Technologies Program), 1000 Independence Avenue, SW., Washington, DC, (202) 586-2945, between 9 a.m. and 4 p.m., Monday through Friday, except Federal holidays. Available documents include the following items: this notice; public comments received; the Petition for Waiver and Application for Interim Waiver; prior Department rulemakings regarding residential clothes washer; prior Petitions for Waiver; and prior Decisions and Orders. Please call Ms. Brenda Edwards-Jones at the above telephone number for additional information regarding visiting the Resource Room. Please note: The Department's Freedom of Information Reading Room (formerly Room 1E-190 at the Forrestal Building) is no longer housing rulemaking materials.

FOR FURTHER INFORMATION CONTACT: Bryan Berringer, U.S. Department of Energy, Office of Energy Efficiency and Renewable Energy, Building Technologies Program, Mail Stop EE-2J, Forrestal Building, 1000 Independence Avenue, SW., Washington, DC 20585-0121, (202) 586-0371; e-mail: bryan.berringer@ee.doe.gov; or Francine B. Pinto, U.S. Department of Energy, Office of General Counsel, Mail Stop GC-72, Forrestal Building, 1000 Independence Avenue, SW., Washington, DC 20585-0121, (202) 586-9507; e-mail: Francine.Pinto@hq.doe.gov.

SUPPLEMENTARY INFORMATION:

I. Background and Authority

II. Application for Interim Waiver and Petition for Waiver

III. Alternate Test Procedure

IV. Summary and Request for Comments

I. Background and Authority

Title III of the Energy Policy and Conservation Act (EPCA) sets forth a variety of provisions concerning energy efficiency. Part B of Title III (42 U.S.C. 6291-6309) provides for the ”Energy Conservation Program for Consumer Products other than Automobiles.” Today's notice involves residential products under Part B that provide definitions, test procedures, labeling provisions, energy conservation standards, and the authority to require information and reports from manufacturers. With respect to test procedures, Part B generally authorizes the Secretary of Energy to prescribe test procedures that are reasonably designed to produce results which reflect energy efficiency, energy use and estimated operating costs, and that are not unduly burdensome to conduct. (42 U.S.C. 6293(b)(3))

The test procedures for residential products appear at 10 CFR Part 430, Subpart B, Appendix J1. EPCA provides that the Secretary of Energy may amend test procedures for consumer products if the Secretary determines that amended test procedures would more accurately reflect energy efficiency, energy use and estimated operating costs, and are not unduly burdensome to conduct. (42 U.S.C. 6293(b)(3))

The Department's regulations contain provisions allowing a person to seek a waiver from the test procedure requirements for covered consumer products. These provisions are set forth in 10 CFR 430.27.

The waiver provisions allow the Assistant Secretary for Energy Efficiency and Renewable Energy (hereafter “Assistant Secretary”) to temporarily waive test procedures for a particular basic model when a petitioner shows that the basic model contains one or more design characteristics that prevent testing according to the prescribed test procedures, or when the prescribed test procedures may evaluate the basic model in a manner so unrepresentative of its true energy consumption as to provide materially inaccurate comparative data. (10 CFR 430.27 (a)(1)) The Assistant Secretary may grant the waiver subject to conditions, including adherence to alternate test procedures. Petitioners are to include in their petition any alternate test procedures known to evaluate the basic model in a manner representative of its energy consumption. (10 CFR 430.27(b)(1)(iii)) Waivers generally remain in effect until final test procedure amendments become effective, thereby resolving the problem that is the subject of the waiver.

The waiver process also allows the Assistant Secretary to grant an Interim Waiver from test procedure requirements to manufacturers that have petitioned the Department for a waiver of such prescribed test procedures. (10 CFR 430.27(a)(2)) An Interim Waiver remains in effect for a period of 180 days or until the Department issues its determination on the Petition for Waiver, whichever is sooner, and may be extended for an additional 180 days, if necessary. (10 CFR 430.27(h))

II. Application for Interim Waiver and Petition for Waiver

On November 21, 2005, Whirlpool filed an Application for Interim Waiver and a Petition for Waiver from the Department of Energy's test procedures applicable to its residential automatic and semi-automatic clothes washers. In particular, Whirlpool requested a waiver to test its High Impeller clothes washers on the basis of the residential test procedures contained in 10 CFR Part 430, Subpart B, Appendix J1, with the following values appended to Table 5.1:

Container volume: (ft3) | Container volume: (liter) | Minimum load: (lb) | Minimum load: (kg) | Maximum load: (lb) | Maximum load: (kg) | Average load: (lb) | Average load: (kg)
3.8-3.9 | 107.6-110.4 | 3.00 | 1.36 | 15.8 | 7.17 | 9.4 | 4.26

Whirlpool's petition seeks a waiver from the Department's test procedure because a test load is used within the procedure, and the mass of this test load is based on the basket volume of the test specimen, which is currently not defined for the size units cited in their waiver application. At the time this test procedure was written, the relation between basket volume and test load mass was defined for basket volumes between 0 and 3.8 cubic feet. Current market trends have lead Whirlpool to design a series of clothes washers that contain a basket volume greater than 3.8 cubic feet, but less than 3.9 cubic feet.

Table 5.1 of Appendix J1 defines the test load sizes used during the procedure as linear functions of the basket volume. Whirlpool has submitted a proposed modification to this table which extends the table one incremental unit to define a load for clothes washers with a basket volume between 3.8 cubic feet and 3.9 cubic feet. The minimum, maximum, and average load factors proposed by Whirlpool in this request are merely extrapolations of the linear relationships between the load factors and the basket volume, by one incremental unit.

The Department agrees that the current test procedure does not define a load level for clothes washers with a basket volume greater than 3.8 cubic feet. The Department further agrees that since the load levels are currently defined in a linear manner for basket volumes between 0.8 cubic feet and 3.8 cubic feet that extrapolating these linear functions to a basket volume of 3.9 cubic feet is fair and logical. Thus, it appears likely that the Petition for Waiver will be granted.

Based on the statements above, the Department of Energy is granting an Interim Waiver to Whirlpool for its High Impeller line of clothes washers, pursuant to 10 CFR of § 430.27(g).

Pursuant to 10 CFR Part 430.27(b)(1)(iv), the Department is hereby publishing the “Petition for Waiver.” The Petition contains no confidential company information. Whirlpool will send a copy of the Petition for Waiver and a copy of the Application for Interim Waiver to all known manufacturers of domestically marketed units of the same product type.

III. Alternate Test Procedure

Manufacturers face restrictions with respect to making representations about the energy consumption and energy consumption costs of products covered by EPCA. (42 U.S.C. 6293(c)) Consistent representations are important for manufacturers to make claims about the energy efficiency of their products. For example, they are necessary to determine compliance with state and local energy codes and regulatory requirements, and can provide valuable consumer purchasing information. To provide a test procedure from which manufacturers can make valid representations, the Department is considering setting an alternate test procedure for Whirlpool in the subsequent Decision and Order based on the appended values to Table 5.1 of Appendix J1. Furthermore, if DOE specifies an alternate test procedure for Whirlpool, DOE may consider applying the alternate test procedure to similar waivers for residential clothes washers.

IV. Summary and Request for Comments

Today's notice announces a Whirlpool Petition for Waiver and grants Whirlpool an Interim Waiver from the test procedures applicable to Whirlpool's High Impeller line of clothes washers with basket volumes greater than 3.8 cubic feet and less than 3.9 cubic feet. The Department is publishing the Whirlpool Petition for Waiver in its entirety. The Petition contains no confidential information. Furthermore, today's notice includes an alternate test procedure that the Department is considering including in the subsequent Decision and Order. This alternate test procedure includes a proposed modification to Table 5.1 of Appendix J1 adding one incremental unit to define a load for clothes washers with a basket volume between 3.8 cubic feet and 3.9 cubic feet.

• The Department is interested in receiving comments, data and information on all aspects of this notice. The Department is particularly interested in receiving comments and views of interested parties concerning the proposed alternate test procedure under consideration for the upcoming Decision and Order for the Whirlpool Petition.

Issued in Washington, DC, on August 14, 2006.
Alexander A. Karsner,
Assistant Secretary, Energy Efficiency and Renewable Energy.

Whirlpool

Administrative Center—2000 M63—Mail Drop 3005—Benton Harbor, MI 49022

November 21, 2005.

Douglas Faulker,

Acting Assistant Secretary,

Energy Efficiency and Renewable Energy,

U.S. Department of Energy, EE-2J,

1000 Independence Ave., SW,

Washington, DC 20585-0121.

RE: Waiver of Test Procedure for 10CFR430, Subpart B, Appendix J1.

Dear Assistant Secretary Faulkner: Whirlpool Corporation requests a waiver of the test procedure for a basket volume greater than 3.8 cubic feet. Currently, the test procedure provides allowable load levels for basket volumes less than 3.8 cubic feet. Whirlpool (and most likely other manufacturers as well) is designing clothes washers with larger basket volumes. Whirlpool Corporation requests that, for the models specified below, it be allowed to use the corresponding load levels shown in the table below. These load levels were obtained by extrapolating from the existing volumes and load levels in Table 5.1 of Appendix J1.

Model No. | Description | Basket volume (=>) | Basket volume (<) | AVG load (lbs) | Min load (lbs) | Max load (lbs)
27082600 PC 580 KEN D = Test Sell Model | High Impeller White | 3.8 | 3.9 | 9.4 | 3.0 | 15.8
27086600 PC 580 KEN D | High Impeller Graphite | 3.8 | 3.9 | 9.4 | 3.0 | 15.8
27087600 PC 580 KEN D | High Impeller Pacific Blue | 3.8 | 3.9 | 9.4 | 3.0 | 15.8

Please contact me at 202-434-8990 with your opinion on this waiver request. Thank you for your assistance.

Sincerely,

CC: Bryan Berringer—DOE

Mike McCabe—DOE

Ron Lewis—DOE

David Rodgers—DOE

Heather O. West, Director, Government Relations, 1200 G Street, NW., Suite 828, Washington, DC 20005-3820, Phone: (202) 434-8990, Fax: (202) 434-8991.

[FR Doc. E6-13853 Filed 8-21-06; 8:45 am]

BILLING CODE 6450-01-P